DEPARTMENT OF COMMERCE

National Oceanic and Atmospheric Administration

RIN 0648-XU02

Endangered and Threatened Species: Notice of Intent to Prepare a Recovery Plan for Cook Inlet Beluga Whales

AGENCY: National Marine Fisheries Service (NMFS), National Oceanic and Atmospheric Administration (NOAA), Commerce.

ACTION: Notice of Intent to prepare recovery plan; request for information.

SUMMARY: NMFS is required by the Endangered Species Act of 1973 (ESA), as amended (16 U.S.C. 1531 et seq.), to develop plans for the conservation and survival of federally listed species, i.e., recovery plans. NMFS is announcing its intent to prepare a recovery plan for the Cook Inlet beluga whale (Delphinapterus leucas) and requests information from the public.

DATES: All information must be received no later than 5 p.m. Alaska Time by March 29, 2010.

ADDRESSES: Submit materials by any of the following methods:

• E-mail: The mailbox address for submitting e-mail information for recovery planning is CIBRP@noaa.gov. Please include “Cook Inlet Beluga Recovery Plan Information” in the subject line of the e-mail.

• Mail: Submit written comments and information to National Marine Fisheries Service, P.O. Box 21668, Juneau, AK 99802, ATTN: Ellen Sebastian.

• Hand Delivery/Courier: National Marine Fisheries Service, 709 West 9th Street, Room 420, Juneau, AK 99802. Business hours are 8 a.m. to 5 p.m., Monday through Friday, except federal holidays.

• Fax: (907) 586-7557. Please identify the fax comments as “Cook Inlet Beluga Recovery Plan Information.”

FOR FURTHER INFORMATION CONTACT: Mandy Migura, Marine Mammal Specialist, Anchorage Field Office, (907) 271-1332.

SUPPLEMENTARY INFORMATION:

Background

Management responsibility for beluga whales in Alaska lies with the Secretary of Commerce and has been delegated to NMFS. As such, NMFS is charged with the recovery of Cook Inlet belugas, which are listed as endangered under the ESA. The recovery planning process is guided by the statutory language of section 4(f) of the ESA and NMFS policies. Recovery is the use of all methods and procedures which are necessary to bring any endangered species or threatened species to the point at which the measures provided pursuant to the ESA are no longer necessary. The ESA specifies that recovery plans must include: (1) a description of management actions as may be necessary to achieve the plan's goals for the conservation and survival of the species; (2) objective, measurable criteria which, when met, would result in the species being removed from the list; and (3) estimates of time and costs required to achieve the plan's goal and the intermediate steps towards that goal. In an effort to expedite the recovery plan process, NMFS will work towards incorporating relevant portions of the final Conservation Plan for the Cook Inlet Beluga Whale into the draft Recovery Plan.

Section 4(f) of the ESA, as amended in 1988, requires that public notice—and an opportunity for public review and comment—be provided during recovery plan development. NMFS is hereby soliciting relevant information on Cook Inlet beluga whales and their habitats. Upon completion, the draft Recovery Plan will be available for public review and comment through the publication of a Federal Register Notice. NMFS requests relevant information from the public during preparation of the draft Recovery Plan. Such information should address: (a) criteria for removing the Cook Inlet beluga whales from the list of threatened and endangered species; (b) factors that are presently limiting, or threaten to limit, the survival of the belugas; (c) actions to address limiting factors and threats; (d) estimates of time and cost to implement recovery actions; and (e) research, monitoring, and evaluation needs.

Authority: 16 U.S.C. 1531 et seq.

Dated: January 22, 2010.
Therese Conant,
Deputy Chief, Division of Endangered Species, Office of Protected Resources, National Marine Fisheries Service.

[FR Doc. 2010-1769 Filed 1-27-10; 8:45 am]

BILLING CODE 3510-22-S